DEPARTMENT OF STATE

[Public Notice 3828]

Advisory Committee on International Economic Policy Notice of Postponement and Rescheduling of Public Meeting

The Advisory Committee on International Economic Policy (ACIEP) public meeting described in Public Notice No. 3804 that had been scheduled from 10 a.m. to 12 p.m. on Tuesday, November 20, 2001, in Room 1107, U.S. Department of State, 2201 C Street, NW., Washington, DC 20520 has been postponed. It will now be held on December 12, from 9:00 a.m. to 12:00 p.m. in the Loy Henderson Auditorium at the State Department. The meeting will be hosted by Committee Chairman R. Michael Gadbaw and Assistant Secretary of State for Economic and Business Affairs E. Anthony Wayne.

The ACIEP serves the U.S. Government in a solely advisory capacity concerning issues and problems in international economic policy. The objective of the ACIEP is to provide expertise and insight on these issues that are not available within the U.S. Government.

Topics for the December 12 meeting will be:

• China's Accession to the WTO

• Results of the Doha WTO Ministerial

• The Campaign Against International Terrorism

The public may attend these meetings as seating capacity allows. The media is welcome but discussions are off the record. Admittance to the Department of State building is by means of a pre-arranged clearance list. In order to be placed on this list, please provide your name, title, company or other affiliation if appropriate, social security number, date of birth, and citizenship to the ACIEP Executive Secretariat by fax (202) 647-5936 (Attention: Raynell Bowling); Tel: (202) 647-0847; or e-mail: (bowlingra@state.gov) by December 10th. On the date of the meeting, persons who have pre-registered should come to the 23rd Street entrance. One of the following valid means of identification will be required for admittance: a U.S. driver's license with photo, a passport, or a U.S. Government ID.

For further information about the meeting, contact

Deborah Grout, ACIEP Secretariat, U.S. Department of State, Bureau of Economic and Business Affairs, Room 3526, Main State, Washington, DC 20520. Tel: 202-647-1826.

Dated: November 15, 2001.
Deborah Grout,
Executive Secretary, Department of State.

[FR Doc. 01-28969 Filed 11-16-01; 8:45 am]

BILLING CODE 4710-07-P